DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-02NT15379 entitled “Applications of Petroleum Technologies on Native American and Alaskan Native Corporation Properties for the Benefit of the Entire Tribe/Native Corporation.” The DOE/NETL is seeking applications on behalf of the National Petroleum Technology Office, for support of projects consistent with applied research for development, exploration, processing and environmental solutions for oil production problems on Native American and Alaskan Native Corporation lands, thereby commonly benefitting the Tribe or Corporation. This program is directed toward creating cooperative efforts between the Tribes or Corporations and the oil industry.

DATES: The solicitation will be available on the DOE/NETL's Internet address at http://www.netl.doe.gov/business and on the “Industry Interactive Procurement System” (IIPS) webpage located at http://e-center.doe.gov on or about December 10, 2001.

FOR FURTHER INFORMATION CONTACT: Juliana L. Murray, U.S. Department of Energy, National Energy Technology Laboratory, PO Box 10940, MS 921-107, Pittsburgh, PA 15236, E-mail Address: murray@netl.doe.gov, Telephone Number: 412-386-4872.

SUPPLEMENTARY INFORMATION: The DOE supports modern petroleum technologies on Native American and Alaskan Native Corporation lands which are both economically and environmentally viable. For a number of reasons, many areas on Native American and Alaskan Native Corporation lands are under explored and consequently have underdeveloped oil reserves. This program is directed toward creating cooperative efforts between the Tribes or Corporations and the oil industry.

The four areas of interest for the technical topics of this solicitation are:

(1) Development Program

The Development program is directed toward technologies to improve the development of a known oil field on Native American and Alaskan Native Corporation lands. Proposed efforts must be economically and environmentally viable as well as an improvement in the development of an oil field. The types of technologies to be considered are not limited to, but may include, reservoir characterization, completion or stimulation, secondary or tertiary oil recovery, artificial lift, well workovers, well drilling, field studies and production management;

(2) Exploration Program

The Exploration program is directed toward technologies to promote the exploration of undiscovered oil fields on Native American and Alaskan Native Corporation lands. In cooperation with the Tribal management, proposed efforts must be economically and environmentally viable as well as an improvement of oil field exploration techniques. The types of technologies to be considered are not limited to, but may include, non-invasive exploration techniques, computer-based modeling for exploration and well drilling and evaluation;

(3) Environmental Program

The Environmental program is directed toward technologies to reduce the cost of effective environmental oil and gas field compliance. The types of technologies to be considered are not limited to, but may include, soil remediation and remediation due to past operational practices or problems, air emissions, innovative waste and produced water management; and

(4) Oil Processing Program

The oil processing program is directed toward an increase in refining capacity by addressing issues that limit potential construction. The types of studies to be considered are those that evaluate the environmental impact and the economic feasibility of oil processing on Native American lands. Projects that focus on reducing the environmental impact of oil refining on these lands will also be considered.

Proposed efforts must incorporate innovative technologies to improve the development of a known oil field, to promote exploration of undiscovered oil reserves, to study viable solutions to evaluate and minimize the environmental impact of oil processing construction/operation or to reduce the cost of effective environmental oil and gas field compliance.

This solicitation fits into the overall mission of NETL by furthering to resolve the environmental, supply and reliability constraints of producing and using fossil energy resources to provide Americans with a stronger economy, healthier environment and more secure future. Reserves and production are expected to increase as well as potential for facilitating a cleaner environment and a strong potential to increase processing capacity. The benefits are far-reaching to U.S. citizens, Native American Tribes, Alaskan Native Corporations and the U.S. Government by promoting a stronger economy, healthier environment and more secure future.

This solicitation is a follow-on to a 1999 Native American Solicitation. DOE anticipates issuing approximately two to five financial assistance (grant) awards with a project performance period no less than one year in length and up to two years in length. Approximately $1.2 million of DOE funding is planned for this solicitation. DOE has determined the minimum cost share of twenty percent (20%) of the total estimated project cost is required; details of the cost sharing requirement and the specific funding levels will be contained in the program solicitation.

This solicitation will be targeted for unrestricted competition however, all potential offerors must provide a letter of commitment for the project from the Native American Tribe's governing body or from the governing body of an Alaskan Native Corporation (more information will be provided in the solicitation). Applications submitted by or on behalf of (1) another Federal agency; (2) a Federally Funded Research and Development Center sponsored by another Federal agency; or (3) a Department of Energy (DOE) Management Operating (M&O) contractor will not be eligible for award under this solicitation. However, an application that includes performance of a portion of the work by a DOE M&O contractor will be evaluated and may be considered for award subject to the provisions to be set forth in Program Solicitation DE-PS26-02NT15379 (Note: The limit on participation by an M&O contractor for an individual project under this solicitation cannot exceed 20% of the total project cost).

Once released, the solicitation will be available for downloading from the IIPS Internet page. At this Internet site you will also be able to register with IIPS, enabling you to submit an application. If you need technical assistance in registering or for any other IIPS function, call the IIPS Help Desk at (800) 683-0751 or e-mail the Help Desk personnel at IIPS_HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by e-mail that the solicitation has been released to the public. Telephone requests, written requests, e-mail requests, or facsimile requests for a copy of the solicitation package will not be accepted and/or honored. Applications must be prepared and submitted in accordance with the instructions and forms contained in the solicitation. The actual solicitation document will allow for requests for explanation and/or interpretation.

Issued in Pittsburgh, PA, on November 29, 2001.
Dale A. Siciliano,
Deputy Director, Acquisition and Assistance Division.

[FR Doc. 01-30243 Filed 12-5-01; 8:45 am]

BILLING CODE 6450-01-P